DEPARTMENT OF EDUCATION

National Advisory Committee on Institutional Quality and Integrity Meeting

AGENCY: National Advisory Committee on Institutional Quality and Integrity (NACIQI), Office of Postsecondary Education, U.S. Department of Education.

ACTION: Announcement of an open meeting.

SUMMARY: This notice sets forth the agenda, time, and location for the February 22-24, 2017 meeting of the National Advisory Committee on Institutional Quality and Integrity (NACIQI), and provides information to members of the public on requesting to make oral comments and submitting written statements at the meeting. The notice of this meeting is required under the Federal Advisory Committee Act (FACA) and the Higher Education Act (HEA) of 1965, as amended.

DATES: The NACIQI meeting will be held on February 22, 23, and 24, 2017, each day from 8:30 a.m. to 5:30 p.m.

ADDRESSES: Hilton Alexandria Old Town Hotel, 1767 King Street, Alexandria, VA 22314.

FOR FURTHER INFORMATION CONTACT: Jennifer Hong, Executive Director/Designated Federal Official, NACIQI, U.S. Department of Education, 400 Maryland Avenue SW., Room 6W250, Washington, DC 20202, telephone: (202) 453-7805, or email: Jennifer.Hong@ed.gov.

SUPPLEMENTARY INFORMATION:

NACIQI's Statutory Authority and Function: NACIQI is established under § 114 of the HEA. NACIQI advises the Secretary of Education with respect to:

• The establishment and enforcement of the standards of accrediting agencies or associations under subpart 2, part G, Title IV of the HEA, as amended.

• The recognition of specific accrediting agencies or associations.

• The preparation and publication of the list of nationally recognized accrediting agencies and associations.

• The eligibility and certification process for institutions of higher education under Title IV of the HEA and part C, subchapter I, chapter 34, Title 42, together with recommendations for improvement in such process.

• The relationship between (1) accreditation of institutions of higher education and the certification and eligibility of such institutions, and (2) State licensing responsibilities with respect to such institutions.

• Any other advisory function relating to accreditation and institutional eligibility that the Secretary of Education may prescribe by regulation.

Meeting Agenda: Agenda items for the February 2017 are below.

Agencies Applying for Renewal of Recognition

1. American Podiatric Medical Association

Scope of Recognition: The accreditation and preaccreditation (“Provisional Accreditation”) throughout the United States of freestanding colleges of podiatric medicine and programs of podiatric medicine, including first professional programs leading to the degree of Doctor of Podiatric Medicine.

2. Commission on English Language Program Accreditation

Scope of Recognition: The accreditation of postsecondary, non-degree-granting English language programs and institutions in the United States.

3. The Council on Chiropractic Education

Scope of Recognition: The accreditation of programs leading to the Doctor of Chiropractic degree and single-purpose institutions offering the Doctor of Chiropractic program.

4. Joint Review Committee on Education in Radiologic Technology

Scope of Recognition: The accreditation of education programs in radiography, magnetic resonance, radiation therapy, and medical dosimetry, including those offered via distance education, at the certificate, associate, and baccalaureate levels.

Agency Seeking Review of Compliance Report

Western Association for Schools and Colleges, Accrediting Commission for Community and Junior Colleges (ACCJC) Compliance report includes the following: (1) Findings identified in the April 5, 2016 letter from the senior Department official following the December 2015 NACIQI meeting available at: https://opeweb.ed.gov/aslweb/finalstaffreports.cfm, (2) Findings identified in the January 4, 2016 Secretary's appeal decision available at: http://oha.ed.gov/secretarycases/2014-10-O.pdf, (3) The limitation on ACCJC's authority to approve single baccalaureate programs within the scope of accreditation of previously accredited institutions, as outlined in the April 5, 2016 letter from the senior Department official, (4) Review under 34 CFR 602.33 of complaints filed against the agency and analyzed by the staff.

Requested Scope of Recognition: The accreditation and preaccreditation (“Candidate for Accreditation”) of community and other colleges with a primarily pre-baccalaureate mission located in California, Hawaii, the United States territories of Guam and American Samoa, the Republic of Palau, the Federated States of Micronesia, the Commonwealth of the Northern Mariana Islands, and the Republic of the Marshall Islands, which offer certificates, associate degrees, and the first baccalaureate degree by means of a substantive change review offered by institutions that are already accredited by the agency, and such programs offered via distance education and correspondence education at these colleges. This recognition also extends to the Committee on Substantive Change of the Commission, for decisions on substantive changes, and the Appeals Panel.

Agency Applying for an Expansion of Scope

Accrediting Bureau of Health Education Schools

Current Scope of Recognition: The accreditation of private, postsecondary institutions in the United States offering predominantly allied health education programs and the programmatic accreditation of medical assistant, medical laboratory technician and surgical technology programs, leading to a certificate, diploma, Associate of Applied Science, Associate of Occupational Science, Academic Associate degree, or Baccalaureate degree, including those offered via distance education. This scope extends to the Substantive Change Committee, jointly with the Commission, for decisions on substantive changes.

Requested Scope of Recognition: The accreditation of private, postsecondary institutions in the United States offering predominantly allied health education programs and the programmatic accreditation of medical assistant, medical laboratory technician, and surgical technology programs, leading to a certificate, diploma, Associate of Applied Science, Associate of Occupational Science, Academic Associate degree, Baccalaureate degree, and Master's degree, including those offered via distance education. The scope extends to the Substantive Change Committee, jointly with the Commission, for decisions on substantive change.

Application for Renewal of Recognition—State Agency for the Approval of Nurse Education

Missouri State Board of Nursing.

Election of a New Chairperson and Vice Chairperson

NACIQI will elect a new Chairperson and Vice Chairperson to serve three-year terms on the Committee.

Panel on Outcome Measures

Representatives from accrediting agencies and associations will be invited to discuss current initiatives regarding the consideration and review of outcome measures in the accreditation process.

National Coordinating Center Accreditation Workgroup

The National Coordinating Center for comprehensive transition and postsecondary programs for students with intellectual disabilities is established under § 777 of the HEA. Section 777(b)(5)(J) of the HEA requires the convening of a workgroup to develop and recommend model criteria, standards, and components of comprehensive transition programs for students with intellectual disabilities, and further requires a NACIQI member to serve on the workgroup. Section 777(b)(6) of the HEA requires a report to the Secretary, the authorizing committees, and NACIQI, on the recommendations of the workgroup not later than five years after the date of the establishment of the coordinating center which was in 2010. Members of the workgroup will provide a summary of their report to NACIQI and a new NACIQI representative to the workgroup will be selected.

NACIQI Policy Agenda

NACIQI will continue discussion regarding its policy agenda, and revisit how it will proceed in its review of accrediting agencies at future meetings, to include the Committee's use of a consent agenda for agencies undergoing review.

Meeting Discussion

In addition to following the HEA, the FACA, implementing regulations, and the NACIQI charter, as well as its customary procedural protocols, NACIQI inquiries will include the questions and topics listed in the pilot plan it adopted at its December 2015 meeting. A document entitled “June 2016 Pilot Plan” and available at: http://sites.ed.gov/naciqi/files/naciqi-dir/2016-spring/pilot-project-march-2016.pdf, outlines this pilot and provides further explanation and context framing NACIQI's work. As noted in this document, NACIQI's reviews of accrediting agencies will include consideration of data and information available on the accreditation data dashboards, http://www2.ed.gov/admins/finaid/accred/accreditor-dashboards.pdf. Accrediting agencies that will be reviewed for renewal of recognition will not be on the consent agenda and are advised to come prepared to answer questions related to the following:

• Decision activities of and data gathered by the agency.

○ NACIQI will inquire about the range of accreditation activities of the agency since its prior review for recognition, including discussion about the various favorable, monitoring, and adverse actions taken. Information about the primary standards cited for the monitoring and adverse actions that have been taken will be sought.

○ NACIQI will also inquire about what data the agency routinely gathers about the activities of the institutions it accredits and about how that data is used in their evaluative processes.

• Standards and practices with regard to student achievement.

○ How does your agency address “success with respect to student achievement” in the institutions it accredits?

○ Why was this strategy chosen? How is this appropriate in your context?

○ What are the student achievement challenges in the institutions accredited by your agency?

○ What has changed/is likely to change in the standards about student achievement for the institutions accredited by your agency?

○ In what ways have student achievement results been used for monitoring or adverse actions?

• Agency activities in improving program/institutional quality.

○ How does this agency define “at risk?”

○ What tools does this agency use to evaluate “at risk” status?

○ What tools does this agency have to help “at risk” institutions improve?

○ What can the agency tell us about how well these tools for improvement have worked?

To the extent NACIQI's questions go to improvement of institutions and programs that are not at risk of falling into noncompliance with agency requirements, the responses will be used to inform NACIQI's general policy recommendations to the Department rather than its recommendations regarding recognition of any individual agency.

The discussions and issues described above regarding the pilot are in addition to, rather than substituting for, exploration by Committee members of any topic relevant to recognition.

Submission of requests to make an oral comment or to provide a written statement regarding a specific accrediting agency or state approval agency under review: Oral comments and written statements made will become part of the official record and will be considered by the Department and NACIQI in their deliberations. No individual in attendance or making oral presentations may distribute written materials at the meeting. Oral comments may not exceed three minutes.

Comments and statements about an agency's recognition after review of a compliance report must relate to issues identified in the compliance report and the criteria for recognition cited in the senior Department official's letter that requested the report, or in the Secretary's appeal decision, if any. Comments and statements about an agency seeking expansion of scope must be directed to the agency's ability to serve as a recognized accrediting agency with respect to the kinds of institutions or programs requested to be added. Comments and statements about the renewal of an agency's recognition based on a review of the agency's petition must relate to its compliance with the Criteria for the Recognition of Accrediting Agencies, or the Criteria and Procedures for Recognition of State Agencies for Approval of Nurse Education, as appropriate, which are available at http://www.ed.gov/admins/finaid/accred/index.html.

There are two methods the public may use to request to make a third-party oral comment of three minutes concerning one of the agencies scheduled for review at the February 22-24, 2017 meeting. To submit a written statement to NACIQI, please follow Method One.

Method One: Submit a request by email to the ThirdPartyComments@ed.gov mailbox. Please do not send material directly to NACIQI members. Written statements and requests to make oral comment must be received by February 15, 2017, and include the subject line “Oral Comment Request: (agency name),” or “Written Statement: (agency name).” The email must include the name(s), title, organization/affiliation, mailing address, email address, telephone number, of the person(s) submitting a written statement or requesting to speak, and a brief summary (not to exceed one page) of the principal points to be made during the oral presentation, if applicable. All individuals submitting an advance request in accordance with this notice will be afforded an opportunity to speak.

Method Two: Register at the meeting location on February 22, 2017, from 7:30 a.m.-8:30 a.m., to make an oral comment during NACIQI's deliberations concerning a particular agency or institution scheduled for review. The requestor must provide his or her name, title, organization/affiliation, mailing address, email address, and telephone number. A total of up to fifteen minutes during each agency review will be allotted for oral commenters who register on February 22, 2017 by 8:30 a.m. Individuals will be selected on a first-come, first-served basis. If selected, each commenter may not exceed three minutes.

Access to Records of the Meeting: The Department will post the official report of the meeting on the NACIQI Web site within 90 days after the meeting. Pursuant to the FACA, the public may also inspect the materials at 400 Maryland Avenue SW., Washington, DC, by emailing aslrecordsmanager@ed.gov or by calling (202) 453-7110 to schedule an appointment.

Reasonable Accommodations: The meeting site is accessible to individuals with disabilities. If you will need an auxiliary aid or service to participate in the meeting (e.g., interpreting service, assistive listening device, or materials in an alternate format), notify the contact person listed in this notice at least two weeks before the scheduled meeting date. Although we will attempt to meet a request received after that date, we may not be able to make available the requested auxiliary aid or service because of insufficient time to arrange it.

Electronic Access to This Document: The official version of this document is the document published in the Federal Register. Free Internet access to the official edition of the Federal Register and the Code of Federal Regulations is available via the Federal Digital System at: www.gpo.gov/fdsys . At this site you can view this document, as well as all other documents of this Department published in the Federal Register, in text or Adobe Portable Document Format (PDF). To use PDF, you must have Adobe Acrobat Reader, which is available free at the site. You may also access documents of the Department published in the Federal Register by using the article search feature at: www.federalregister.gov. Specifically, through the advanced search feature at this site, you can limit your search to documents published by the Department.

Authority: 20 U.S.C. 1011c.

Gail McLarnon,
Acting Deputy Assistant Secretary for Planning, Policy, and Innovation.

[FR Doc. 2017-00306 Filed 1-9-17; 8:45 am]

BILLING CODE P